COMMISSION ON CIVIL RIGHTS

Notice of Public Meetings of the Pennsylvania Advisory Committee to the U.S. Commission on Civil Rights

AGENCY: Commission on Civil Rights.

ACTION: Notice of virtual briefings.

SUMMARY: Notice is hereby given, pursuant to the provisions of the rules and regulations of the U.S. Commission on Civil Rights (Commission) and the Federal Advisory Committee Act, that the Pennsylvania Advisory Committee (Committee) to the U.S. Commission on Civil Rights will hold a series of public briefings via Zoom. The purpose of these briefings is to gather testimony regarding the civil rights inplications of the rising use of Artificial Intelligence (AI) in education.

DATES:

• Monday, March 25, 2024, from 11:00 a.m.-1:00 p.m. Eastern Time

• Wednesday, March 27, 2024, from 11:00 a.m.-1:00 p.m. Eastern Time

• Friday, March 29, 2024, from 11:00 a.m.-1:00 p.m. Eastern Time

• Friday, April 25, 2024, from 11:00 a.m.-1:00 p.m. Eastern Time

ADDRESSES: These meetings will be held via Zoom.

March 25th Meeting

• Registration Link (Audio/Visual): https://www.zoomgov.com/webinar/register/WN_3W5k7ikzRm27HkVsDxnIdg

• Join by Phone (Audio Only): 1-833-435-1820 USA Toll Free; Webinar ID: 161 359 3255#

March 27th Meeting

• Registration Link (Audio/Visal): https://www.zoomgov.com/webinar/register/WN_zBUu1g39SzWT9cD2EQHpDA

• Join by Phone (Audio Only): 1-833-435-1820 USA Toll Free; Webinar ID: 160 502 2106#

March 29th Meeting

• Registration Link (Audio/Visual): https://www.zoomgov.com/webinar/register/WN_GZn38HApS6ekX78RRrjyRA

• Join by Phone (Audio Only): 1-833-435-1820 USA Toll Free; Webinar ID: 161 217 4066#

April 25th Meeting

• Registration Link (Audio/Visual): https://www.zoomgov.com/webinar/register/WN_LzV2bS2GSKOMU7gH4CTFTw

• Join by Phone (Audio Only): 1-833-435-1820 USA Toll Free; Webinar ID: 161 775 0070#

FOR FURTHER INFORMATION CONTACT: Melissa Wojnaroski, Designated Federal Officer, at mwojnaroski@usccr.gov or 1-202-618-4158.

SUPPLEMENTARY INFORMATION: These Committee meetings are available to the public through the registration links above. Any interested members of the public may attend these meetings. An open comment period will be provided to allow members of the public to make oral statements as time allows. Pursuant to the Federal Advisory Committee Act, public minutes of the meeting will include a list of persons who are present at these meetings. If joining via phone, callers can expect to incur regular charges for calls they initiate over wireless lines, according to their wireless plan. The Commission will not refund any incurred charges. Callers will incur no charge for calls they initiate over land-line connections to the toll-free telephone number. Closed captioning is available by selecting “CC” in the meeting platform. To request additional accommodations, please email csanders@usccr.gov at least 10 business days prior to each meeting.

Members of the public are entitled to submit written comments; the comments must be received in the regional office within 30 days following the scheduled meeting. Written comments may be emailed to Melissa Wojnaroski at mwojnaroski@usccr.gov. Persons who desire additional information may contact the Regional Programs Coordination Unit at 1-202-618-4158.

Records generated from these meetings may be inspected and reproduced at the Regional Programs Coordination Unit Office, as they become available, both before and after each meeting. Records of the meetings will be available via www.facadatabase.gov under the Commission on Civil Rights, Pennsylvania Advisory Committee link. Persons interested in the work of this Committee are directed to the Commission's website, http://www.usccr.gov, or may contact the Regional Programs Coordination Unit at csanders@usccr.gov.

Agenda

I. Welcome and Roll Call

II. Chair's Comments

III. Panelist Testimony

IV. Public Comment

V. Adjournment

Dated: February 28, 2024.
David Mussatt,
Supervisory Chief, Regional Programs Unit.

[FR Doc. 2024-04566 Filed 3-4-24; 8:45 am]

BILLING CODE P